DEPARTMENT OF HEALTH AND HUMAN SERVICES

National Institutes of Health

Submission for OMB Review; 30-Day Comment Request; The Study of Center of Global Health's (CGH) Workshops (NCI)

SUMMARY: Under the provisions of Section 3507(a)(1)(D) of the Paperwork Reduction Act of 1995, the National Cancer Instititue, the National Institutes of Health, has submitted to the Office of Management and Budget (OMB) a request for review and approval of the information collection listed below. This proposed information collection was previously published in the Federal Register on March 1, 2016 and page 10638 and allowed 60 days for public comment. No public comments were received. The purpose of this notice is to allow an additional 30 days for public comment. The National Cancer Institute, NCI, National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30 days of the date of this publication.

FOR FURTHER INFORMATION CONTACT: To obtain a copy of the data collection plans and instruments, or request more information on the proposed project, contact*: Sudha Sivaram, National Cancer Institute Center for Global Health, 9609 Medical Center Dr., Rm 3W528, Rockville, MD 20850 or call non-toll-free number (240) 276-5815 or Email your request, including your address to: sudha.sivaram@nih.gov. Formal requests for additional plans and instruments must be requested in writing.

Proposed Collection: The Study of the Center of Global Health's (CGH) Workshops (NCI), 0925-0722, Expiration Date 06/30/2018, REVISION, National Cancer Institute (NCI), National Institutes of Health (NIH).

Need and Use of Information Collection: This study is collecting stakeholder feedback from past and future workshops; to assess the effectiveness of the Center of Global Health (CGH) workshops, which seek to assess abilities of the workshop attendees and respective countries to implement national cancer control programs; inform content and improve delivery of future workshops, and to systematically assess CGH's contribution. The workshops to be studied are the Symposiums on Global Cancer Research, Workshops in Cancer Control Planning and Implementation, the Summer Curriculum in Cancer Prevention, Women's Cancer Program Summit, Regional Grant Writing and Peer Review Workshops, and Workshops on Tobacco Control. While these workshops differ in content and delivery style, their underlying goals are the same; they intend to initiate and enhance cancer control efforts, increase capacity for cancer research, foster new partnerships, and create research and cancer control networks. The proposed study requests information about the outcomes of each of these workshops including (1) new cancer research partnerships and networks (2) cancer control partnerships and networks, (3) effects on cancer research, and (4) effect on cancer control planning and implementation efforts. Information will be collected in two phases where Phase 1 will collect information from attendees of past workshops (1998-2015) and Phase 2 will collect information from attendees of future workshops over the next three years. The surveys will enable CGH to better understand the impact the workshops have had on their partnerships and networks, research, and cancer control planning and implementation efforts.

OMB approval is requested for 3 years. There are no costs to respondents other than their time. The total estimated annualized burden hours are 941.

Estimated Annualized Burden Hours
Type of respondents | Form name | Number of respondents per year | Number of responses per respondent | Average burden per response (in hours) | Total annual burden hours
Chief Executives, Medical Scientists, Health Educators, Family/General Practitioners, Registered Nurses, Medical and Health Services Managers | Phase 1: Symposium on Global Cancer Research Phase 2: Symposium on Global Cancer Research Phase 1: Workshop in Cancer Control Planning and Implementation for non-Ministry of Health participants | 500 250 70 | 1 1 1 | 20/60 20/60 20/60 | 167 84 23
| Phase 2: Workshop in Cancer Control Planning and Implementation for non-Ministry of Health participants | 70 | 1 | 20/60 | 23
| Phase 1: Workshop in Cancer Control Planning and Implementation for Ministry of Health | 70 | 1 | 20/60 | 23
| Phase 2: Workshop in Cancer Control Planning and Implementation for Ministry of Health | 70 | 1 | 20/60 | 23
| Phase 1: Summer Curriculum in Cancer Prevention (Attach 3D) | 500 | 1 | 30/60 | 250
| Phase 2: Summer Curriculum in Cancer Prevention | 27 | 1 | 30/60 | 14
| Phase 1: Women's Cancer Program Summit | 140 | 1 | 20/60 | 47
| Phase 2: Women's Cancer Program Summit | 140 | 1 | 20/60 | 47
| Phase 1: Regional Grant Writing and Peer Review Workshop | 150 | 1 | 30/60 | 75
| Phase 2: Regional Grant Writing and Peer Review Workshop | 60 | 1 | 30/60 | 30
| Phase 1: Workshops on Tobacco Control | 180 | 1 | 30/60 | 90
| Phase 2: Workshops on Tobacco Control | 90 | 1 | 30/60 | 45
Totals |  | 2,317 | 2,317 |  | 941

Dated: May 26, 2016.
Karla Bailey,
Project Clearance Liaison, National Cancer Institute, NIH.

[FR Doc. 2016-12995 Filed 6-1-16; 8:45 am]

BILLING CODE 4140-01-P